COMMISSION ON CIVIL RIGHTS

Sunshine Act Notice

Agency: U.S. Commission on Civil Rights.

Date and Time: Friday, October 17, 2003, 8:30 a.m.

Place: Double Tree Hotel, 201 Marquette Avenue, NW., Albuquerque, NM 87102.

Status:

Agenda

I. Approval of Agenda.

II. Approval of Minutes of September 12, 2003 Meeting.

III. Announcements.

IV. Staff Director's Report.

V. State Advisory Committee Report: “Racial Harassment in Vermont Public Schools: A Progress Report”.

VI. “Not in My Backyard: Executive Order 12898 and Title VI as Tools for Achieving Environmental Justice” Report.

VII. Future Agenda Items.

9:30 a.m. Briefing on Native American Health Care.

FOR FURTHER INFORMATION CONTACT: Les Jin, Press and Communications (202) 376-7700.

Debra A. Carr,
Deputy General Counsel.

[FR Doc. 03-25966 Filed 10-8-03; 3:15 pm]

BILLING CODE 6335-01-M